DEPARTMENT OF ENERGY

Federal Energy Regulatory Commission

[Docket No. EL05-57-000]

Williams Power Company, Inc., Complainant v. California Independent System Operator Corp., Respondent; Notice of Complaint

January 18, 2005.

Take notice that on January 14, 2005, Williams Power Company, Inc. (Williams) filed a complaint under section 206 of the Federal Power Act 16 U.S.C. 824e and section 206 of the Commission's Rules of Practice and Procedures 18 CFR 385.206, against the California Independent System Operator Corporation (CAISO). Williams charges that the CAISO has improperly and unlawfully applied an unapproved tolerance band procedure to deprive minimum load cost compensation (MLCC) to generating units operating under the must-offer obligation when returning from a CAISO dispatch instruction. Williams requests a determination that the CAISO's unilateral application of this procedure has not been authorized by the Commission and is therefore unlawful. Williams requests that the Commission direct the CAISO to reverse the application of this procedure in each and every instance that it applied the procedure, and that the Commission direct the CAISO to immediately pay MLCC, plus interest, in which the CAISO imparoperly denied MLCC by virtue of the application in this procedure.

Williams states that this complaint has been served on the CAISO.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: February 7, 2005.

Magalie R. Salas,
Secretary.

[FR Doc. E5-298 Filed 1-25-05; 8:45 am]

BILLING CODE 6717-01-P